DEPARTMENT OF THE INTERIOR

Bureau of Land Management

[NV-952-02-1420-BJ]

Filing of Plats of Survey; Nevada

AGENCY: Bureau of Land Management, Interior.

ACTION: Notice.

SUMMARY: The purpose of this notice is to inform the public and interested State and local government officials of the filing of Plats of Survey in Nevada.

EFFECTIVE DATES: Filing is effective at 10:00 a.m. on the dates indicated below.

FOR FURTHER INFORMATION CONTACT: Robert M. Scruggs, Chief, Branch of Geographic Sciences, Bureau of Land Management (BLM), Nevada State Office, 1340 Financial Blvd., P.O. Box 12000, Reno, Nevada 89520, 775-861-6541.

SUPPLEMENTARY INFORMATION:

1. The Plat of Survey of the following described lands was officially filed at the Nevada State Office, Reno, Nevada on April 19, 2001:

The plat, representing the dependent resurvey of a portion of the south boundary of Township 24 North, Range 49 East; and the dependent resurvey of a portion of the subdivisional lines, and the subdivision of section 1, Township 23 ½ North, Range 49 East, Mount Diablo Meridian, Nevada, under Group No. 778, was accepted April 17, 2001.

This survey was executed to meet certain administrative needs of the Bureau of Land Management.

2. The Supplemental Plats of the following described lands were officially filed at the Nevada State Office, Reno, Nevada on August 2, 2001:

The supplemental plat, showing amended lottings in sec. 23, Township 13 South, Range 70 East, Mount Diablo Meridian, Nevada, was accepted July 31, 2001.

The supplemental plat, showing amended lottings in sec. 24, Township 13 South, Range 70 East, Mount Diablo Meridian, Nevada, was accepted July 31, 2001.

The supplemental plat, showing amended lottings in sec. 26, Township 13 South, Range 70 East, Mount Diablo Meridian, Nevada, was accepted July 31, 2001.

The supplemental plat, showing amended lottings in sec. 27, Township 13 South, Range 70 East, Mount Diablo Meridian, Nevada, was accepted July 31, 2001.

The supplemental plat, showing amended lottings in sec. 28, Township 13 South, Range 70 East, Mount Diablo Meridian, Nevada, was accepted July 31, 2001.

The supplemental plat, showing amended lottings in sec. 30, Township 13 South, Range 70 East, Mount Diablo Meridian, Nevada, was accepted July 31, 2001.

The supplemental plat, showing amended lottings in sec. 31, Township 13 South, Range 70 East, Mount Diablo Meridian, Nevada, was accepted July 31, 2001.

The supplemental plat, showing amended lottings in sec. 32, Township 13 South, Range 70 East, Mount Diablo Meridian, Nevada, was accepted July 31, 2001.

The supplemental plat, showing amended lottings in sec. 33, Township 13 South, Range 70 East, Mount Diablo Meridian, Nevada, was accepted July 31, 2001.

These plats were prepared to meet certain administrative needs of the Bureau of Land Management and the City of Mesquite, Nevada.

3. The Plat of Survey of the following described lands was officially filed at the Nevada State Office, Reno, Nevada on September 27, 2001:

The plat, in three (3) sheets, representing the dependent resurvey of a portion of the south boundary (First Standard Parallel South), the east, west, and north boundaries and a portion of the subdivisional lines, and the subdivision of certain sections, Township 4 South, Range 66 East, Mount Diablo Meridian, Nevada, was accepted September 25, 2001.

This survey was executed to meet certain administrative needs of the Bureau of Land Management.

4. The Supplemental Plats of the following described lands were officially filed at the Nevada State Office, Reno, Nevada on October 4, 2001:

The supplemental plat, showing the subdivision of lot 13, section 16, Township 19 South, Range 61 East, Mount Diablo Meridian, Nevada, was accepted October 2, 2001.

The supplemental plat, showing the subdivision of lot 18, section 18, Township 19 South, Range 62 East, Mount Diablo Meridian, Nevada, was accepted October 2, 2001.

These plats were prepared to meet certain administrative needs of the Bureau of Land Management.

5. The Plat of Survey of the following described lands was officially filed at the Nevada State Office, Reno, Nevada on October 4, 2001:

The plat, representing the dependent resurvey a portion of the north boundary, a portion of the subdivisional lines and Mineral Survey No. 2114, and the subdivision of sections 5, 7 and 8, Township 4 South, Range 67 East, Mount Diablo Meridian, Nevada, was accepted October 2, 2001.

This survey was executed to meet certain administrative needs of the Bureau of Land Management.

6. The Supplemental Plat of the following described lands was officially filed at the Nevada State Office, Reno, Nevada on November 29, 2001:

The supplemental plat, showing amended lottings in the NE1/4NE1/4 sec. 6, Township 14 North, Range 20 East, Mount Diablo Meridian, Nevada, was accepted November 27, 2001.

This plat was prepared to meet certain administrative needs of the Bureau of Land Management.

7. The Plat of Survey of the following described lands were officially filed at the Nevada State Office, Reno, Nevada on December 20, 2001:

The plat, representing the dependent resurvey of a portion of the south boundary, a portion of the west boundary and a portion of the subdivisional lines, and the subdivision of section 31, Township 18 North, Range 39 East, Mount Diablo Meridian, Nevada, was accepted December 18, 2001.

This survey was executed to meet certain administrative needs of the Bureau of Land Management.

8. The above-listed surveys are now the basic record for describing the lands for all authorized purposes. These surveys have been placed in the open files in the BLM Nevada State Office and are available to the public as a matter of information. Copies of the surveys and related field notes may be furnished to the public upon payment of the appropriate fees.

Dated: February 6, 2002.
David J. Clark,
Acting Chief Cadastral Surveyor, Nevada.

[FR Doc. 02-17343 Filed 7-9-02; 8:45 am]

BILLING CODE 4310-HC-P